DEPARTMENT OF LABOR

Employment and Training Administration

[TA-W-60,504]

Ford Motor Company; St. Louis Assembly Plant Hazelwood, MO; Notice of Termination of Investigation

Pursuant to Section 221 of the Trade Act of 1974, as amended, an investigation was initiated on November 21, 2006 in response to a petition filed on behalf of workers of Ford Motor Company, St. Louis Assembly Plant, Hazelwood, Missouri.

The petitioning group of workers is covered by an earlier petition filed on November 24, 2006 (TA-W-60,478) that is the subject of an ongoing investigation for which a determination has not yet been issued. Further investigation in this case would duplicate efforts and serve no purpose; therefore the investigation under this petition has been terminated.

Signed at Washington, DC, this 11th day of December, 2006.
Linda G. Poole,
Certifying Officer, Division of Trade Adjustment, Assistance.

[FR Doc. E6-21789 Filed 12-20-06; 8:45 am]

BILLING CODE 4510-30-P